DEPARTMENT OF AGRICULTURE

Forest Service

Ray's Valley Road Realignment, Uinta National Forest, Utah County, UT

AGENCY: Forest Service, USDA.

ACTION: Notice of intent to prepare an environmental impact statement.

SUMMARY: The Uinta National Forest will prepare an environmental impact statement on a proposal to realign the existing Ray's Valley Road (Forest Development Road #051). Ray's Valley Road is an arterial road on the Spanish Fork Ranger District, Uinta National Forest.

DATES: Comments should be received in writing by May 14, 2000.

ADDRESSES: Comments should be mailed to Ken Gould, Ray's Valley EIS Team Leader, Uinta National Forest, 88W 100N, PO Box 1428, Provo, Utah 84601 or sent by e-mail to kgould@fs.fed.us

SUPPLEMENTARY INFORMATION: The Ray's Valley Road is a heavily used travel route that connects with the Diamond Fork Road (Forest Development Road #029), and the Right Fork Hobble Creek Road (Forest Development Road #058) at Springville Crossing. These arterial travel routes provide access for the Wasatch Front to Spanish Fork Canyon, and Utah State Highway 6 via the Diamond Fork and Ray's Valley Roads. They also provide access to and from Utah State Highway 6 and the Strawberry Reservoir Recreation Complex via the Ray's Valley Road.

The surface of the Diamond Fork Road and most of the Ray's Valley Road are asphalt pavement or gravel. However, a portion of the Ray's Valley Road is narrow, winding, and native-surfaced. During inclement weather conditions, the road surface becomes extremely hazardous to travel, and/or impassable.

Some of the existing road lies directly adjacent to tributaries of Diamond Fork Creek. Approximately 1.8 miles of this route are located on soils subject to severe slumping and/or erosion. Due to the proximity of the road to the streams, eroding soil is easily transported into Diamond Fork and Sixth Water Creeks. Diamond Fork Creek provides habitat for Bonneville Cutthroat Trout, a sensitive species. Operation and maintenance costs on this section of road are high. Existing road conditions do not meet Road Management Objectives for an arterial system road. The Forest Service has long planned to realign this road to address these concerns; however, funding has never been available.

The proposed action is to construct the Ray's Valley Road on a new alignment and to obliterate the road on its existing alignment. The purpose and need of the proposed action is to reduce or eliminate these adverse watershed and fisheries impacts, and to provide safer driving conditions, while maintaining a key arterial component of the Forest's travel system.

Preliminary Issues

Issues identified at this time include: Health and safety; travel management; soils; fisheries; threatened, endangered, and sensitive plant and animal species; and roadless areas.

Possible Alternatives

Three possible alternatives have been identified: (1) No Action—Leave the road in its current condition; (2) Reconstruct Using the Existing Alignment—Reconstruct on the existing alignment and surface the road with crushed aggregate; and (3) Construct on a New Alignment (Proposed Action)—Reconstruct, realign, and obliterate portions of the Ray's Valley Road.

The No Action Alternative would leave the road in current condition. Maintenance would be limited to actions required for passage of high clearance vehicles. The road would remain unsafe during periods of precipitation. Arterial system road standards for capacity and safety would not be addressed by this alternative. Road induced sediment in nearby streams would remain at current levels, or increase as erosion of the roadway continues.

The Reconstruct Existing Alignment Alternative would reconstruct the road on its existing alignment and add a crushed aggregate surface. Reconstruction would provide better control of drainage from roadway runoff, provide safer and more comfortable vehicle travel during precipitation, and support a greater range of vehicle types. Road induced sediment in nearby streams would slightly decrease due to better drainage and aggregate surfacing. Road Management Objectives for an arterial system road will not be fully accomplished by this alternative due to the location.

The Proposed Action is the Construct New Alignment Alternative. Under this alternative a small portion of the existing Ray's Valley Road would be reconstructed on its existing alignment. Other portions of the Rays Valley Road would be constructed on a new alignment on more stable soils, and away from streams and riparian areas. This proposal would result in approximately 3.6 miles of a double lane road with a crushed aggregate surface. The existing road would be abandoned, closed, and rehabilitated. Access to Forest Development Road 715 from the new alignment would be maintained by reconstructing a portion of Forest Development Road 387. This would ensure continued access to the west portal of the Strawberry Tunnel.

Proposed Scoping Process

This Notice of Intent initiates the scoping process. As part of the scoping period, the Forest Service solicits public comment on the nature and scope of the environmental, social, and economic issues related to the proposed action that should be analyzed in depth in the Draft Environmental Impact Statement. Comments on this proposal should be sent to the address shown earlier in this notice.

Public participation will be solicited by notifying affected interests through personal contacts and by mail. This project has been listed in the Uinta National Forest's “Schedule of Proposed Actions” (i.e. NEPA Quarterly). News releases will also be utilized to give the public general notice. Comments concerning the Proposed Action and EIS should address environmental issues to be considered, feasible alternatives to examine, possible mitigation, and information relevant to or bearing on the Proposed Action.

The comment period on the draft environmental impact statement will be 45 days from the date the Environmental Protection Agency publishes the notice of availability in the Federal Register.

The Forest Service believes it is important to give reviewers notice at this early stage of several court rulings related to public participation in the environmental review process. First, reviewers of draft environmental impact statements must structure their participation in the environmental review of the proposal so that is meaningful and alerts an agency to the reviewer's position and contentions. Vermont Yankee Nuclear Power Corp. v. NRDC, 435 U.S. 519, 553 (1978). Also, environmental objections that could be raised at the draft environmental impact statement stage, but are not raised until after completion of the final environmental impact statement, may be waived or dismissed by the courts. City of Angoon v. Hodel, 803 F.2D 1016, 1022 (9th Cir. 1986) and Wisconsin Heritages, Inc. v. Harris, 490 F. Supp. 1334, 1338 (E.D. Wis. 1980). Because of these court rulings, it is very important that those interested in the proposed action participate by the close of the 45-day comment period so that substantive comments and objections are made available to the Forest Service at a time when it can be meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at 40 CFR 1503.3 in addressing these points.

Tentative Project Schedule:

Begin Comment Period—April, 2000; Comment Period Ends—May 26, 2000; Draft EIS—September 30, 2000; Final EIS—January, 2001; Record of Decision—March 2001.

Responsible Official: Jack A. Blackwell, USDA Forest Service Intermountain Regional Supervisor, 324 25th Street, Ogden, Utah 84401.

For Further Information Contact: Ken Gould, (801) 342-5100 or at the address listed previously.

Dated: April 6, 2000.
Peter W. Karp,
Forest Supervisor.

[FR Doc. 00-13394 Filed 5-26-00; 8:45 am]

BILLING CODE 3410-11-M